DEPARTMENT OF AGRICULTURE

Forest Service

Olympic Cross Cascade Pipeline Project, Mt. Baker-Snoqualmie National Forest, Snohomish, King, Kittitas, Grant, Adams, and Franklin Counties, Washington

AGENCY: Forest Service, USDA.

ACTION: Cancellation notice.

SUMMARY: On February 28, 1996, a Notice of Intent (NOI) to prepare an environmental impact statement for the Olympic Cross Cascade Pipeline Project, a new 230-mile pipeline from western Washington to southeastern Washington, was published in the Federal Register (61 FR 7467). The proponent has withdrawn the proposal. When this project is again considered for implementation a new NOI will be filed. The 1996 NOI is hereby rescinded.

FOR FURTHER INFORMATION CONTACT: Floyd J. Rogalski, Wenatchee National Forest, Cle Elum Ranger District, 803 West Second Street, Cle Elum, Washington 98922, telephone 509-674-4411.

Dated: December 20, 1999.
John Phipps,
Forest Supervisor.

[FR Doc. 00-1288 Filed 1-19-00; 8:45 am]

BILLING CODE 3410-11-M